DEPARTMENT OF EDUCATION

[Docket No.: ED-2024-SCC-0028]

Agency Information Collection Activities; Submission to the Office of Management and Budget for Review and Approval; Comment Request; Safer Schools and Campuses Best Practices Clearinghouse

AGENCY: Office of Elementary and Secondary Education (OESE), Department of Education (ED).

ACTION: Notice.

SUMMARY: In accordance with the Paperwork Reduction Act (PRA) of 1995, the Department is proposing an extension without change of a currently approved information collection request (ICR).

DATES: Interested persons are invited to submit comments on or before May 24, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Victoria Hammer, (202) 260-1438.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Safer Schools and Campuses Best Practices Clearinghouse.

OMB Control Number: 1810-0753.

Type of Review: Extension without change of a currently approved ICR.

Respondents/Affected Public: State, Local, and Tribal Governments.

Total Estimated Number of Annual Responses: 300.

Total Estimated Number of Annual Burden Hours: 450.

Abstract: This is a request for approval of an extension without change of the OMB approved collection, 1810-0753 Safer Schools and Campuses Best Practices Clearinghouse. The U.S. Department of Education (Department) collects lessons learned and best practices from the field to populate the Safer Schools and Campuses Best Practices Clearinghouse (Clearinghouse) in response to the directive to do so in Executive Order 14000 issued on January 21, 2021, by the President. This extension will allow the Department to continue collecting lessons learned and best practices for the Clearinghouse.

The purpose for this collection is to ensure that the Department has sufficient information to review and, if appropriate, approve submissions to include in the Clearinghouse.

Dated: April 18, 2024.
Kate Mullan,
PRA Coordinator,Strategic Collections and Clearance Governance and Strategy Division, Office of Chief Data Officer, Office of Planning, Evaluation and Policy Development.

[FR Doc. 2024-08714 Filed 4-23-24; 8:45 am]

BILLING CODE 4000-01-P